DEPARTMENT OF JUSTICE

[OMB Number 1121-0335]

Agency Information Collection Activities: Proposed Collection; Comments Requested; Extension of a Currently Approved Collection; Bureau of Justice Assistance: National Motor Vehicle Title Information System

ACTION: 30-Day Notice of Information Collection Under Review.

The Department of Justice, Office of Justice Programs (Bureau of Justice Assistance) will be submitting the following information collection request to the Office of Management and Budget (OMB) for review and clearance in accordance with review procedures of the Paperwork Reduction Act of 1995. The proposed information collection was previously published in the Federal Register Volume 77, Number 7, pages 1727-1728, on January 11, 2012, to obtain comments from the public and affected areas. Please note, that the 60 day notice for this collection was previously submitted as a new collection, and has since then been transferred to OJP and assigned a new OMB control. This is an extension of a currently approved collection. Comments should be directed to OMB, Office of Information and Regulatory Affairs, Attention: Department of Justice Desk Officer (202) 395-6466, Washington, DC 20530.

All comments, and suggestions, or questions regarding additional information, to include obtaining a copy of the proposed information collection instrument with instructions, should be directed to M.A. Berry at (202) 353-8643, Bureau of Justice Assistance, Office of Justice Programs, 810 Seventh Street, Room 4223, Washington, DC 20531.

Written comments and suggestions from the public and affected agencies concerning the proposed collection of information are encouraged. Your comments should address one or more of the following four points:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Information

(1) Type of information collection: Extension of currently approved collection.

(2) The title of the form/collection: National Motor Vehicle Title Information System.

(3) The agency form number, if any, and the applicable component of the department sponsoring the collection: None. Bureau of Justice Assistance, Office of Justice Programs, United States Department of Justice.

(4) Affected public who will be asked or required to respond, as well as a brief abstract: Primary: Junk yards. Salvage yards. Motor vehicle insurance carriers. States and local units of general government including the 50 state governments, the District of Columbia, Guam, Puerto Rico, and the U.S. Virgin Islands. Abstract: The reporting of vehicle information by junk yard, salvage yard operators and insurance carriers is expressly required by 49 U.S.C. 30504. Each state is required to make their titling information available to NMVTIS as per 49 U.S.C. 30503(a). Additionally, each state is required “to establish a practice of performing an instant title verification check before issuing a certificate of title.” See 49 U.S.C. 30503(b).

Other: None.

(5) An estimate of the total number of respondents and the amount of time estimated for an average respondent to respond/reply: It is estimated that no more than 13,051 respondents will submit information. Each application takes approximately 30 minutes to complete and is submitted once per vehicle.

If additional information is required, contact: Department Deputy Clearance Officer, Information Management and Security Staff, Justice Management Division, United States Department of Justice, Two Constitution Square, 145 N Street NE., Room 2E-508, Washington, DC 20530.

Jerri Murray,
Department Clearance Officer, PRA, United States Department of Justice.

[FR Doc. 2012-6265 Filed 3-14-12; 8:45 am]

BILLING CODE 4410-18-P